DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76), dated October 14, 1980, and corrected at 45 FR 69296, October 20, 1980, as amended most recently at 66 FR 39178-39179, dated July 27, 2001) is amended to reorganize the Vaccine Preventable Disease Eradication Division, National Immunization Program.

Section C-B, Organization and Functions, is hereby amended as follows:

Delete in its entirety the title and functional statement for the Vaccine Preventable Diseases Eradication Division (HCJ5) and insert the following:

Global Immunization Division (HCJ5). (1) Provides national leadership and coordination of the national Immunization Program (NIP) efforts to eradicate polio, control or eliminate measles, strengthen routine immunization programs, introduce new and under-utilized vaccines, and promote safe injection practices, in collaboration with the World Health Organization (WHO) and its regional offices, UNICEF, Rotary International, World Bank, USAID, American Red Cross, International Federation of Red Cross/Red Crescent Societies, UN Foundation, Bill and Melinda Gates Foundation, Path, other international organizations and agencies, and CDC Centers/Institute/Offices (CIOs); (2) provides short- and long-term consultation and technical assistance to WHO, UNICEF, and foreign countries involved in global immunization activities and participates in international advisory group meetings on immunization issues; (3) administers grants to WHO, PAHO, UNICEF, and other international partners as appropriate for the provision of technical, programmatic, and laboratory support, and vaccine procurement for initiatives to support global immunization targets; (4) designs and participates in international research, monitoring, and evaluation projects to increase the effectiveness of immunization strategies as may be developed; (5) develops strategies to improve the technical skills and problem-solving abilities of program managers and health care workers in other countries; (6) refines strategies developed for the eradication or control of vaccine-preventable diseases in the Western Hemisphere for implementation in other parts of the world; (7) assists other countries in projects to improve surveillance for polio, measles, and other vaccine preventable diseases (VPDs), including development of computerized systems for disease monitoring; (8) assists WHO, UNICEF, and other partner organizations in strengthening global epidemiologic and laboratory surveillance for polio, measles, and other VPDs; (9) prepares articles based on findings for publication in international professional journals and presentation at international conferences; (10) collaborates with other countries, WHO, UNICEF, and advocacy groups, to ensure the availability of sufficient funds to purchase an adequate supply of polio, measles, and other vaccines, and funds for technical support, for use in eradication and control efforts; and (11) provides technical and operational leadership for CDC's activities in support of the Global Alliance for Vaccines and Immunization.

Office of the Director (HCJ51). (1) Manages, directs, and coordinates the activities of the division; (2) provides leadership in policy formation, program planning and development, program management, and operations of the division; (3) identifies needs and resources for new initiatives and assigns responsibilities for their development; (4) oversees the division's activities and expenditures; (5) serves as the principal CDC focus for liaison and coordination on VPD programs with CDC CIOs, other federal agencies, international organizations, foreign governments, and other organizations concerned with global immunizations; (6) provides direct supervision for activities in support of the Global Alliance for Vaccines and Immunization (GAVI); and (7) serves as the Associate Director for Global Immunization Activities.

GAVI Activity (HCJ512). (1) Plans, coordinates, and directs technical and programmatic activities in support of the Global Alliance for Vaccines and Immunization, in coordination with the WHO and its Regional offices, UNICEF, USAID, World Bank, Bill and Melinda Gates Foundation, PATH, other international organizations and agencies, and other CIOs; (2) provides short- and long-term consultation and technical assistance to WHO, UNICEF, and foreign countries who are receiving assistance under the GAVI alliance; (3) designs and participates in international research, monitoring, and evaluation projects to increase the effectiveness of GAVI activities to introduce new vaccines, strengthen immunization programs and control or eradicate diseases and; (4) develops strategies to improve the technical skills and problem-solving abilities of immunization program managers in other countries; (5) assists other countries in projects to improve surveillance for vaccine-preventable diseases and monitoring immunization coverage and program effectiveness; (6) assists WHO, UNICEF, and other partner organizations in strengthening global epidemiologic and laboratory surveillance for all VPDs, and in monitoring immunization program effectiveness; (7) prepares articles based on findings for publication in international professional journals and presentation at international conferences; and (8) provides administrative and program support to division staff assigned outside Atlanta to support GAVI activities.

Global Measles Branch (HCJ52). (1) Plans, coordinates, and directs technical and programmatic activities related to National Immunization Program (NIP) international efforts to control and eliminate measles, in collaboration with the World Health Organization (WHO) and its Regional Offices, UNICEF, USAID, American Red Cross, International Federation of Red Cross/Red Crescent Societies, UN Foundation, other international organizations and agencies, and other Centers/Institute/Offices (CIOs); (2) provides short- and long-term consultation and technical assistance to WHO, UNICEF, and foreign countries involved in the global control and elimination of measles and participates in international advisory group meetings regarding measles elimination; (3) designs and participates in international research, monitoring, and evaluation projects to increase the effectiveness of measles control and elimination strategies; (4) develops strategies to improve the technical skills and problem-solving abilities of program managers and health care workers in other countries; (5) refines strategies developed for the control and elimination of measles in the Western Hemisphere for implementation in other parts of the world; (6) assists other countries in projects to improve surveillance for measles, polio, and other vaccine-preventable diseases, including development of computerized systems for disease monitoring; (7) assists WHO, UNICEF, and other partner organizations in strengthening global epidemiologic and laboratory surveillance for polio, measles, and other VPDs targeted for eradication; (8) prepares articles based on findings for publication in international professional journals and presentation at international conferences; (9) administers grants to UNICEF, PAHO and WHO for provision of technical, programmatic, and laboratory support, and vaccine procurement; (10) provides administrative and programmatic support to branch staff assigned outside of Atlanta; and (11) together with the Office of the Director, coordinates and implements advocacy activities with American Red Cross, International Federation of Red Cross, USAID, WHO, UNICEF, and other global partners to ensure the availability of adequate resources for global measles control and regional elimination activities.

Polio Eradication Branch (HCJ53). (1) Plans, coordinates, and directs technical and programmatic activities related to National Immunization Program (NIP) efforts to eradicate polio, in collaboration with the World Health Organization (WHO) and its Regional Offices, UNICEF, Rotary International, USAID, International Federation of Red Cross/Red Cresent Societies, other international organizations and agencies, and other Centers/Institute/Offices (CIOs); (2) provides short- and long-term consultation and technical assistance to WHO, UNICEF, and foreign countries involved in the global eradication of polio and participates in international advisory group meetings regarding polio eradication; (3) designs and participates in international research, monitoring, and evaluation projects to increase the effectiveness of polio eradication strategies; (4) develops strategies to improve the technical skills and problem-solving abilities of program managers and health care workers in other countries; (5) refines strategies developed for the eradication of polio in the Western Hemisphere for implementation in other parts of the world; (6) assists other countries in projects to improve surveillance for polio, measles and other vaccine-preventable diseases, including development of computerized systems for disease monitoring; (7) assists WHO, UNICEF, and other partner organizations in strengthening global epidemiologic and laboratory surveillance for polio, measles, and other VPDs targeted for eradication; (8) prepares articles based on findings for publication in international professional journals and presentation at international conferences; (9) provides technical training as part of Division sponsored courses for staff of CDC, WHO, UNICEF, Rotary International, and other immunization partners; (10) administers grants to UNICEF and WHO for provision of technical, programmatic, and laboratory support, and vaccine procurement; (11) provides administrative and programmatic support to branch staff assigned outside of Atlanta; and (12) together with Office of the Director, coordinates and implements advocacy activities with Rotary International, USAID, WHO, UNICEF, and other global partners to ensure the availability of adequate resources for polio eradication activities.

Dated: October 30, 2001.
David Fleming,
Deputy Director for Science and Public Health.

[FR Doc. 01-28015 Filed 11-7-01; 8:45 am]

BILLING CODE 4160-18-M